DEPARTMENT OF THE INTERIOR

Bureau of Land Management

[AZA-32028]

Arizona; Initial Classification of Public Lands for State Indemnity Selection

1. Pursuant to Title 43 Code of Federal Regulations, subpart 2400; and section 7 of the Act of June 28, 1934 (48 Stat. 1269); and the provisions granted to the State in the Act of June 20, 1910 (36 Stat. 557, 568-579), the public lands described below are hereby classified by State Indemnity Selection. The State of Arizona has filed an application to acquire the described lands in lieu of certain school lands that were encumbered by other rights or reservations before the State's title could attach. This application was assigned serial number AZA-32028.

2. The notice of proposed classification of these lands was published Friday, July 26, 2002, in the Federal Register Volume 67, Number 144, pages 48939-48941 and, was widely publicized. No written comments have been received concerning the proposed classification. The State of Arizona relinquished the following described parcel from their application: Gila and Salt River Meridian, Arizona. T. 12 N., R. 28 E., Section 10, NW¼SE¼, containing 40.00 acres, more or less.

The following parcels are classified as mineral in character for oil and gas and have been dropped from further consideration of transfer:

Gila and Salt River Meridian, Arizona

T. 10 N., R. 30 E.

Sec. 14 All;

Sec. 23 All;

Sec. 25 NW¼, NW¼NE¼.

The areas described contain approximately 1,480.00 acres, more or less.

3. The lands included in this classification are located near St. Johns, Arizona, in Apache County, Arizona and are described as follows:

Group I—For Oil and Gas Only

Gila and Salt River Meridian, Arizona

T. 9 N., R. 30 E.

Sec. 13, SW¼SW¼;

Sec. 24, NE¼.

T. 9 N., R. 31 E.

Sec. 3, Lots 1-3, inclusive, Lots 5-7, inclusive, SW¼NE¼, SE¼NW¼;

Sec. 10, Lots 1-4, inclusive, W½E½, E½W½;

Sec. 15, Lots 1-4, inclusive, W½NE¼;

Sec. 22, Lots 3 and 4, SW¼SE¼, SE¼SW¼;

Sec. 27, Lots 1-3, inclusive, W½NE¼, NE¼NW¼, NW¼SE¼.

T. 10 N., R. 30 E.

Sec. 25, NE¼NE¼, S½NE¼, S½.

The areas described contain approximately 1,652.98 acres, more or less.

Group II—For All Minerals, Including Oil and Gas

Gila and Salt River Meridian, Arizona

T. 10 N., R. 30 E.

Sec. 11, SE¼, SE¼SW¼;

Sec. 33, W½NE¼, W½, NW¼SE¼, S½SE¼.

T. 11 N., R. 29 E.

Sec. 21, E½SE¼;

Sec. 22, NW¼SW¼;

Sec. 23, NW¼SW¼.

T. 11 N., R. 31 E.

Sec. 30, Lots 1-4, inclusive, E½, E½W½.

T. 12 N., R. 29 E.

Sec. 24, All.

T. 12 N., R. 30 E.

Sec. 19, Lots 2-4, inclusive, S½NE¼, SE¼NW¼, E½SW¼, SE¼;

Sec. 20, S½N½, S½;

Sec. 24, All;

Sec. 25, All;

Sec. 27, W½, SE¼.

T. 12 N., R. 31 E.

Sec. 18, Lots 1-4, inclusive, E½, E½W½;

Sec. 19, Lots 1-4, inclusive, E½, E½W½;

Sec. 20, All;

Sec. 29, All;

Sec. 30, Lots 1-4, inclusive, E½, E½W½;

Sec. 31, Lots 1-4, inclusive, E½, E½W½.

The areas described contain approximately 8,683.62 acres, more or less.

Group III-For All Surface and Subsurface (Including Oil and Gas)

Gila and Salt River Meridian, Arizona

T. 12 N., R. 29 E.

Sec. 32, E½E½.

T. 12 N., R. 30 E.

Sec. 8, S½S½;

Sec. 21, All;

Sec. 28, All;

Sec. 29, All;

Sec. 34, All;

Sec. 35, NW¼, S½.

The areas described contain approximately 3,360.00 acres, more or less.

Group IV-For Surface Only

Gila and Salt River Meridian, Arizona

T. 12 N., R. 28 E.

Sec. 14, E½NE¼, NW¼NE¼, W½NW¼, NW¼SW¼, W½SE¼, SE¼SE¼.

T. 12 N., R. 29 E.

Sec. 12, N½NE¼, SW¼NE¼, W½NW¼;

Sec. 18, Lots 2-4, inclusive, SW¼NE¼, E½SW¼, SE¼;

Sec. 20, SE¼SE¼;

Sec. 21, NE¼, N½NW¼, SE¼NW¼, S½;

Sec. 27, All;

Sec. 28, All.

T. 12 N., R. 30 E.

Sec. 1, Lots 1-16, inclusive, SW¼;

Sec. 3, Lots 1-12, inclusive;

Sec. 4, Lots 1-12, inclusive;

Sec. 5, Lots 1 & 2, Lots 5-8, inclusive;

Sec. 9, E½;

Sec. 10, All;

Sec. 11, Lots 1-16, inclusive;

Sec. 12, NW¼;

Sec. 13, S½;

Sec. 14, NE¼, SW¼NW¼, W½SW¼, SE¼SW¼, E½SE¼;

Sec. 17, N½N½;

Sec. 23, E½NE¼, SW¼NE¼, NW¼NW¼, S½SW¼, SE¼;

Sec. 26, NE¼, N½NW¼, S½SW¼.

T. 12 N., R. 31 E.

Sec. 21, All;

Sec. 22, Lots 1-4, inclusive, W½E½, W½;

Sec. 27, Lots 1-4, inclusive, W½E½, W½;

Sec. 28, All;

Sec. 33, All;

Sec. 34, Lots 1-4, inclusive, W½E½, W½.

The areas described contain approximately 11,870.55 acres, more or less.

Group V—For Surface and/or Subsurface (Minerals and/or Oil and Gas)

Gila and Salt River Meridian, Arizona

T. 10 N., R. 29 E.

Sec. 18, E½.

T. 11 N., R. 28 E.

Sec. 14, E½E½, NW¼NE¼, SW¼SE¼.

T. 12 N., R. 28 E.

Sec. 12, NW¼NE¼, NE¼NW¼, W½SW¼;

T. 12 N., R. 31 E.

Sec. 15, Lots 1-4, inclusive, W½E½, W½.

The areas described contain approximately 1,265.82 acres, more or less.

4. This classification decision is based on the following disposal criteria set forth in Title 43, Code of Federal Regulations, Subpart 2400.

Transfer of the lands to the State will fulfill the Federal Government's common school land grant to the State, and constitute a public purpose use of the land. Lands found to be valuable for a public purpose use will be considered chiefly valuable for public purposes (43 CFR 2430.2b).

5. The subject lands are under grazing leases with the following individuals or corporations.

Royden & Jack Brown, 4343 E. Keim Drive, Paradise Valley, Arizona 85253, Allotment Number 06033

Clifford A. Thorn, P.O. Box 1091, St. Johns, Arizona 85936, Allotment Number 06061

Johnson Cattle Company, 1132 W. McLellen Road, Mesa, Arizona 85201, Allotment Number 06069

JCK, LLC, 1601 E. McKellips Road, Mesa, Arizona 85203, Allotment Number 06158

James Datrice, 17120 Iron Mountain Drive, Poway, California 92064, Allotment Number 06159

Dale G. & Pamela J. Deratany, HC 62, Box 235, Reserve, New Mexico 87830, Allotment Number 06224

Barbara Garcia, 5796 Hollyridge Drive, Camarillo, California 93010, Allotment Number 06253

The following individuals or corporations have range improvements:

Royden & Jack Brown, 4343 E. Keim Drive, Paradise Valley, Arizona 85253, Project Number 1039

Clifford A. Thorn, P.O. Box 1091, St. Johns, Arizona 85936, Project Number 0981, 0988

JCK, LLC, 1601 E. McKellips Road, Mesa, Arizona 85203, Project Number 2398

James Datrice, 17120 Iron Mountain Drive, Poway, California 92064, Project Number 2322, 2402

If these lands are transferred to the State of Arizona, and a grazing waiver has been received, the grazing leases will be terminated at the time title is transferred to the State. If no waiver has been received, grazing use will be continued under the existing federal grazing lease for a period of two years and, will be listed as “subject to” in the transfer document. At the end of the two year period, the grazing authority for leasing will transfer to the State of Arizona. The State shall recognize the federal lessee's interest in federally approved range improvements. Ownership of federally owned improvements shall pass to the State.

Threatened and Endangered Species and Cultural Resources Evaluations have been performed and approved for subject classification. Any cultural resources will be managed by the Arizona State Land Department under the Arizona State Historic Preservation Act and other applicable statutes.

If and when the selection is approved and certified to the State, the certification will contain the following:

(1) Excepting and reserving to the United States a right-of-way for ditches and canals constructed by the authority of the United States. Act of August 30, 1890 (26 Stat. 361; 43 U.S.C. 945).

(2) As to the lands described above in Group IV, excepting and reserving to the United States, all minerals, including oil and gas, in the lands so granted, together with the right to prospect for, mine and remove the same. Act of July 17, 1941 (38 Stat. 509).

(3) Excepting and reserving to the United States for the duration of oil and gas leases and any renewals thereof all the oil and gas in the lands described subject to the rights of prior permitees and lessees to use so much of the surface of said lands as is required for mining operations without compensation to the State for damages resulting from proper operations, in accordance with Section 29 of the Act of February 25, 1920 (41 Stat. 437, as amended), and the Act of March 4, 1933 (47 Stat. 1570, as amended). In accordance with 43 U.S.C. 852(a)(4), 90% of the revenues from said leases shall be paid to the State by the United States annually as to the clearlisted lands.

(4) Subject to those rights for a power line right-of-way granted to Navopache Electric Cooperative, Inc., its successors or assigns, by right-of-way number AZAR-17703, pursuant to the Act of February 15, 1901 (43 U.S.C. 959) as to S½S½, sec. 8 and NE¼NE¼, sec.17, T. 12 N., R. 30 E., Gila and Salt River Meridian, Arizona.

(5) Subject to those rights for buried communications cables, access roads, and repeater sites, granted to American Telephone and Telegraph Company, its successors or assigns, by right-of-way number AZAR-33064, pursuant to the Act of March 4, 1911 (43 U.S.C. 961) as to SW¼SW¼, SW¼-SE¼, sec. 8; Lots 9, 10, 13, 14 and 15, sec. 11; S½NW¼, sec. 12; N½N½, sec. 17, T. 12 N., R. 30 E., Gila and Salt River Meridian, Arizona.

(6) Those rights for electric distribution lines granted to Navopache Electric Cooperative, Inc., its successors or assigns, by right-of-way number AZA-6016, pursuant to the Act of February 15, 1901 (43 U.S.C. 959) as to N½SW¼, sec. 13; NE¼SE¼, NW¼SW¼, NW¼SW¼SW¼, sec. 14, T. 12 N., R. 30 E., Gila and Salt River Meridian, Arizona.

(7) Subject to those rights for a road right-of-way granted to Apache County Board of Supervisors, its successors or assigns, by right-of-way number AZA-18952, pursuant to the Act of July 26, 1866 (43 U.S.C. 932) as to S½S½, sec. 8; Lots 9, 14, 15 and 16, Sec. 11; SW¼NW¼, sec. 12; NE¼NE¼NE¼, sec. 17, T. 12 N., R. 30 E., Gila and Salt River Meridian, Arizona.

(8) Subject to those rights for a buried fiber optic communication cable granted to American Telephone and Telegraph Company, its successors or assigns, by right-of-way number AZA-23608, pursuant to the Act of October 21, 1976 (43 U.S.C. 1761) as to SW¼SW¼, sec. 8; Lots 9, 10, 13, 14 and 15, sec. 11; S½NW¼, sec. 12; N½N½, sec. 17, T. 12 N., R. 30 E., Gila and Salt River Meridian, Arizona.

(9) Those rights for an overhead electric distribution line granted to Navopache Electric Cooperative, Inc., its successors or assigns, by right-of-way number AZA-23995, pursuant to the Act of October 21, 1976 (43 U.S.C. 1761) as to SE¼NW¼, sec. 12, T. 12 N ., R. 30 E., Gila and Salt River Meridian, Arizona.

(10) Those rights for irrigation facility granted to Lyman Water Company, its successors or assigns, by right-of way number AZPHX-14912, pursuant to the Act of March 3, 1891 (43 U.S.C. 946-951), as to NW¼NE¼, SE¼NE¼, NE¼SE¼, SW¼SE¼, sec. 14, T. 11 N., R. 28 E., Gila and Salt River Meridian, Arizona.

(11) Those rights for irrigation facility granted to Lyman Water Company, its successors or assigns, by right-of way number AZPHX-86671, pursuant to the Act of March 3, 1891 (43 U.S.C. 946-951), as to E½E½, NW¼NE¼, SW¼SE¼, sec. 14, T. 11 N., R. 28 E., Gila and Salt River Meridian, Arizona.

A study has been conducted to assess the mineral character of the area selected for transfer.

None of the parcels described above contain known mineral values, nor are they valuable for minerals potentially locatable under the General Mining Laws, as amended (30 U.S.C. 21, et seq.) or salable under the Materials Act, as amended (30 U.S.C. 601, et seq). None of the parcels are encumbered with mining claims, and they encompass no mineral material contract or permit areas. None of the parcels are valuable for coal, phosphate, nitrate, potash, asphaltic minerals, oil shale, sodium, and sulphur nor are they encumbered by any leases for these minerals.

All of the parcels described above with federal mineral interests are classified as prospectively valuable for oil and gas. Issued oil and gas leases will remain in effect for the duration of the lease term. None of the oil and gas leases are producing, nor are they in a producible status.

The following parcels are classified as mineral in character for oil and gas and have been dropped from further consideration of transfer:

Gila and Salt River Meridian, Arizona

T. 10 N., R. 30 E.

Sec. 14, All;

Sec. 23, All;

Sec. 25, NW¼, NW¼NE¼.

The areas described contain approximately 1,480.00 acres, more or less.

6. The public lands classified by this notice are shown on maps on file and available for inspection in the Arizona State Office, 222 N. Central Avenue, Phoenix, Arizona 85004.

7. For a period of 30 days from the date of publication in the Federal Register, this classification shall be subject to exercise of administrative review and modification by the Secretary of the Interior as provided for in 43 CFR 2461.3 and 2462.3. Interested parties may submit comments to the Secretary of the Interior, 1849 C Street NW. (M.S. 7229), Washington, DC 20240.

Carl Rountree,
Acting State Director.

[FR Doc. 02-23066 Filed 9-9-02; 8:45 am]

BILLING CODE 4310-AG-P